DEPARTMENT OF TRANSPORTATION

Surface Transportation Board

[Docket No. FD 35614]

Adams-Warnock Railway, Inc.—Lease and Operation Exemption—Norfolk Southern Railway Company

Adams—Warnock Railway, Inc. (AWRY), a noncarrier, has filed a verified notice of exemption under 49 CFR 1150.31 to lease from Norfolk Southern Railway Company (NSR), and to operate, a line of railroad referred to as the Brampton Lead, beginning just beyond the northernmost turnout switch at NSR milepost FL 5.5 and extending approximately 5,684 feet in a (generally) northeasterly direction to the end of the track adjacent to the Savannah River in Garden City, Ga.

According to AWRY, there are no official mileposts on the line. AWRY notes that all turnouts on the line east of the NSR milepost FL 5.5 junction and all side and storage tracks that are connected to the line will be included in the lease agreement that is expected to be completed prior to the effective date of the exemption. AWRY points out that it will interchange traffic with NSR at Garden City. AWRY states that the agreement or agreements that will be executed by the parties will not contain any interchange commitments.

The parties intend to consummate the proposed transaction on or after May 11, 2012, the effective date of the exemption (30 days after the exemption was filed).

AWRY certifies that its projected annual revenues as a result of this transaction will not result in its becoming a Class I or Class II rail carrier. AWRY further certifies that its projected annual revenues as a result of this transaction will not exceed $5 million.

If the verified notice contains false or misleading information, the exemption is void ab initio. Petitions to revoke the exemption under 49 U.S.C. 10502(d) may be filed at any time. The filing of a petition to revoke will not automatically stay the effectiveness of the exemption. Stay petitions must be filed no later than May 4, 2012 (at least 7 days before the exemption becomes effective).

An original and 10 copies of all pleadings, referring to Docket No. FD 35614, must be filed with the Surface Transportation Board, 395 E Street SW., Washington, DC 20423-0001. In addition, one copy of each pleading must be served on Robert A. Wimbish, Baker & Miller PLLC, 2401 Pennsylvania Ave. NW., Suite 300, Washington, DC 20037.

Board decisions and notices are available on our Web site at “www.stb.dot.gov.”

Decided: April 23, 2012.
By the Board, Rachel D. Campbell, Director, Office of Proceedings.
Derrick A. Gardner,
Clearance Clerk.

[FR Doc. 2012-10216 Filed 4-26-12; 8:45 am]

BILLING CODE 4915-01-P